DEPARTMENT OF THE TREASURY

Bureau of Engraving and Printing

Proposed Collection; Comment Request

ACTION: Notice and request for comments.

SUMMARY: The Department of the Treasury's Bureau of Engraving and Printing, as part of its continuing effort to reduce paperwork and respondent burden, invites the general public and other Federal agencies to take this opportunity to comment on proposed and/or continuing information collections, as required by the Paperwork Reduction Act of 1995, Public Law 104-13 (44 U.S.C. 3506(c)(2)(A)). Currently, the Bureau of Engraving and Printing within the Department of the Treasury is soliciting comments concerning survey research to support the Bureau's redesigned currency public education program. Written comments should be received on or before January 31, 2003 to be assured consideration. Direct all written comments to Pamela Grayson, Budget & Strategic Planning Office, Bureau of Engraving and Printing, Room 725-7A, Room 509-M, 14th and C Streets, SW, Washington, DC 20228.

Requests for additional information or copies of the form (s) and instructions should also be directed to Pam Grayson.

SUPPLEMENTARY INFORMATION:

Title: Redesigned Currency Development Survey.

OMB Number: New.

Abstract: The Bureau of Engraving and Printing requests approval to survey the public to help identify the most effective approaches for a public education campaign regarding the introduction of new redesigned currency. The campaign is intended to raise awareness of the new currency, maintain confidence in the U.S. currency and encourage authentication.

Current Actions: This is a new collection.

Type of Review: Emergency. The proposed survey research must be completed in February to allow sufficient time for the results to be incorporated into the education program materials before the anticipated launch date.

Affected Public: The affected public includes all adult (18 or older) members of the U.S. population.

Estimated Number of Respondents: 1,950.

Estimated Total Annual Burden Hours: Estimated number of annual burden hours is 650.

Request for Comments: The Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond, including through the use of appropriate automated collection techniques or other forms of information technology, e.g., permitting electronic submission of responses.

Dated: March 3, 2003.
Ellen Gano,
Public Affairs Specialist, Office of Public Education, Bureau of Engraving and Printing.

[FR Doc. 03-5767 Filed 3-10-03; 8:45 am]

BILLING CODE 4840-01-P